DEPARTMENT OF LABOR

Employee Benefits Security Administration

Proposed Extension of Information Collection Request Submitted for Public Comment; Summary Plan Description Requirements under ERISA

AGENCY: Employee Benefits Security Administration, Department of Labor.

ACTION: Notice.

SUMMARY: The Department of Labor (Department), as part of its continuing effort to reduce paperwork and respondent burden, conducts a preclearance consultation program to provide the general public and Federal agencies with an opportunity to comment on proposed and continuing collections of information in accordance with the Paperwork Reduction Act of 1995 (PRA 95). This program helps to ensure that requested data can be provided in the desired format, reporting burden (time and financial resources) is minimized, collection instruments are clearly understood, and the impact of collection requirements on respondents can be properly assessed. Currently, the Employee Benefits Security Administration is soliciting comments on the proposed extension of the Summary Plan Description Requirements under ERISA.

A copy of the information collection request (ICR) can be obtained by contacting the individual shown in the Addresses section of this notice.

DATES: Written comments must be submitted to the office shown in the Addresses section on or before November 17, 2003.

ADDRESSES: Gerald B. Lindrew, Office of Policy and Research, Employee Benefits Security Administration, 200 Constitution Avenue NW., Washington, DC 20210, (202) 693-8410; FAX (202) 219-5333 (these are not toll-free numbers).

SUPPLEMENTARY INFORMATION:

I. Background

Section 104(b) of the Employee Retirement Income Security Act of 1974 (ERISA) requires that the administrator of an employee benefit plan furnish plan participants and certain beneficiaries with a Summary Plan Description (SPD) which describes, in language understandable to an average plan participant, the benefits and rights and obligations of participants in the plan. The information required to be contained in the SPD is set forth in section 102(b) of the statute. To the extent that there is a material modification in the terms of the plan or a change in the required content of the SPD, section 104(b)(1) requires that the administrator furnish participants and beneficiaries with a summary of material modifications (SMM) or summary of material reduction (SMR). Information collection requests pertaining to SPD and SMM or SMR are found in regulations at 29 CFR 2520.102-2 and 102-3, and 29 CFR 104b-2 and 104b-3.

II. Review Focus

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Office of Management and Budget's (OMB) approval of this ICR will expire on November 30, 2003. After considering comments received in response to this notice, the Department intends to submit the ICR to OMB for continuing approval. No change to the existing ICR is proposed or made at this time.

Agency: Employee Benefits Security Administration, Department of Labor.

Title: Summary Plan Description Requirements under ERISA.

Type of Review: Extension of a currently approved collection of information.

OMB Number: 1210-0039.

Affected Public: Individuals or households; business or other for-profit; not-for-profit institutions.

Respondents: 900,000.

Responses: 50,000,000.

Estimated Total Burden Hours: 1,100,000.

Estimated Total Burden Cost (Operating and Maintenance): $400,000,000.

Comments submitted in response to this notice will be summarized and/or included in the request for OMB approval of the information collection request; they will also become a matter of public record.

Dated: September 12, 2003.
Gerald B. Lindrew,
Deputy Director, Office of Policy and Research, Employee Benefits Security Administration.

[FR Doc. 03-23842 Filed 9-17-03; 8:45 am]

BILLING CODE 4510-29-P